DEPARTMENT OF ENERGY

Federal Energy Regulatory Commission

[Project No. 13819-000]

Verde Hydro, LLC; Notice of Preliminary Permit Application Accepted for Filing and Soliciting Comments, Motions To Intervene, and Competing Applications

August 2, 2010.

On July 21, 2010, Verde Hydro, LLC filed an application for a preliminary permit, pursuant to section 4(f) of the Federal Power Act, proposing to study the feasibility of the Verde Hydroelectric Project, located in Maricopa County, in the State of Arizona. The sole purpose of a preliminary permit, if issued, is to grant the permit holder priority to file a license application during the permit term. A preliminary permit does not authorize the permit holder to perform any land disturbing activities or otherwise enter upon lands or waters owned by others without the owners' express permission.

The proposed project would consist of the following developments:

(1) The existing 308-ft in height concrete Bartlett Dam with an 823-ft length at crest and hydraulic head of 251-ft; (2) two existing 72-inch diameter steel penstocks; (3) the existing Bartlett Reservoir having a surface area of 2,815 acres and a storage capacity of 178,000 acre-feet and maximum water surface elevation of 1,798 feet mean sea level; (4) a proposed powerhouse containing three new pump/turbine generating units having an installed capacity of 10- to 15-megawatts; (5) a proposed 12.5 kV interconnection from the transformer near the powerhouse proceeding east to within the existing 345 kv transmission line right-of-way. The proposed development would have an average annual generation of 40,000 megawatt-hours.

Applicant Contact: Thom A. Fischer, P.E., Tollhouse Energy Company, 3633 Alderwood Avenue; Bellingham, WA 98225.

FERC Contact: Mary Greene, 202-502-8865.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site (http://www.ferc.gov/docs-filing/ferconline.asp) under the “eFiling” link. For a simpler method of submitting text only comments, click on “eComment.” For assistance, please contact FERC Online Support at FERCOnlineSupport@ferc.gov; call toll-free at (866) 208-3676; or, for TTY, contact (202) 502-8659. Although the Commission strongly encourages electronic filing, documents may also be paper-filed. To paper-file, mail an original and eight copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-13819) in the docket number field to access the document. For assistance, contact FERC Online Support.

Nathaniel J. Davis, Sr.,
Deputy Secretary.

[FR Doc. 2010-19522 Filed 8-6-10; 8:45 am]

BILLING CODE 6717-01-P